FEDERAL COMMUNICATIONS COMMISSION

[Report No. 2392—Correction ¹]

Petition for Reconsideration of Action in Rulemaking Proceeding

March 16, 2000.

Petiton for Reconsideration has been filed in the Commission's rulemaking proceeding listed in this Public Notice and published pursuant to 47 CFR Section 1.429(e). The full text of these documents are available for viewing and copying in Room CY-A257, 445 12th Street, SW, Washington, DC or may be purchased from the Commission's copy contractor, ITS, Inc. (202) 857-3800. Oppositions to this petition must be filed on or before March 27, 2000, and replies to oppositions on or before April 6, 2000. See Section 1.4(b)(1) of the Commission's Rules (47 CFR 1.4(b)(1)). The Commission is hereby waiving the filing requirements' deadlines established in accordance with 47 CFR Section 1.106 (g) and (h). However, all other requirements established in 47 CFR Section 1.106 are applicable. In addition, this proceeding will continue to be a non-restricted proceeding in which ex parte presentations are permitted, provided they are disclosed in conformance with Commission ex parte rules. See Sections 1.1202 and 1.1206(a) of the Commission's rules (47 CFR 1.1202, 1.1206(a)).

¹ See 65 FR 12996 (March 10, 2000).

Subject: Application by New York Telephone Company (d/b/a Bell Atlantic—New York), Bell Atlantic Communications, Inc., Nynex Long Distance Company and Bell Atlantic Global Networks, Inc. for Authorization to Provide In-Region, InterLATA Services in New York (CC Docket No. 99-295).

Number of Petitions filed: 1.

Federal Communications Commission.
Magalie Roman Salas,
Secretary.

[FR Doc. 00-7299 Filed 3-22-00; 8:45 am]

BILLING CODE 6712-01-M